DEPARTMENT OF THE INTERIOR

National Park Service

Notice of Availability of the Stream Management Plan, Abbreviated Final Environmental Impact Statement, Herbert Hoover National Historic Site, IA

AGENCY: National Park Service, Interior.

SUMMARY: Pursuant to section 102(2)(C) of the National Environmental Policy Act (NEPA) of 1969, the National Park Service (NPS) announces the availability of the stream management plan, abbreviated final environmental impact statement (EIS) for Herbert Hoover National Historic Site, Iowa.

DATES: The final EIS will be made available for a 30-day period, following the publishing of the notice of availability in the Federal Register by the Environmental Protection Agency.

ADDRESSES: Requests for copies should be sent to Superintendent, Herbert Hoover National Historic Site, P.O. Box 607, West Branch, Iowa 52358.

FOR FURTHER INFORMATION CONTACT: Herbert Hoover National Historic Site Superintendent at (319) 643-2541.

SUPPLEMENTARY INFORMATION: The NPS prepared a draft stream management plan/draft EIS for Herbert Hoover National Historic Site, Iowa, pursuant to section 102(c) of the NEPA of 1969. The draft was made available for public review for 60 days (September-November 2005). The NPS distributed full hard copy versions of the draft, and made the draft EIS available on the Web and at area libraries. Two public presentation sessions, attended by 35 participants, were held for the public to discuss and comment on the draft. No written comments were received from the public. The consensus of the public during the presentations was that the NPS would pursue the correct path for the park by following alternative E, the preferred alternative. Comments from public agencies did not require NPS to add other alternatives, significantly alter existing alternatives, or make changes to the impact analysis of the effects of any alternative. Thus, an abbreviated format is used for the responses to comments in the final EIS, in compliance with the implementing regulations (40 CFR 1503.4[c]) for the NEPA, and the NPS Director's Order 12: Conservation planning, environmental impact analysis, and decision-making.

Dated: December 6, 2005.
Ernest Quintana,
Regional Director, Midwest Region.

[FR Doc. E6-232 Filed 1-11-06; 8:45 am]

BILLING CODE 4312-94-P